DEPARTMENT OF HOUSING AND URBAN DEVELOPMENT

[Docket No. FR-7077-N-27]

Privacy Act of 1974; System of Records

AGENCY: Office of Fair Housing and Equal Opportunity, Department of Housing and Urban Development.

ACTION: Notice of a modified system of records.

SUMMARY: Pursuant to the provisions of the Privacy Act of 1974, as amended, the Department of the Housing and Urban Development (HUD), Office of Fair Housing and Equal Opportunity (FHEO) is modifying a system of records, “HUD Enforcement Management System” (HEMS). The modification makes updates to: System Location, System Manager, Purpose, Categories of Individuals, Record Source Categories, Routine Uses and Supplementary information. The modifications do not change the scope of the system.

DATES: Comments will be accepted on or before January 16, 2024. This SORN becomes effective immediately, while the routine uses become effective after the comment period immediately upon publication except for the routine uses, which will become effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; Mr. LaDonne White, Chief Privacy Officer; Office of the Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, 451 Seventh Street SW, Room 10139, Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The purpose of HUD Enforcement Management System (HEMS) is to serve as a source for case data on housing discrimination complaints and case files during the investigation process. HEMS automates the enforcement lines of business for FHEO using a web-based platform. The purpose of HEMS has been streamlined and updated since the original SORN published in 2019. The modifications to HEMS SORN include these changes:—“Security Classification” is updated to Unclassified to reflect the correct Security Classification. The “System Manager” has been updated and brings the information current. The “Categories of Records in the System” is updated to include the collection of Personal Identifiable Information (PII) provided by the individual to contact people involved in a particular case. The “Categories of Individuals Covered by the System ” is updated to include the collection of PII from primary individuals whose information is contained in HEMS which includes Complainants, Respondents and Witnesses. The” Routine Uses of Records Maintained in the System, Including Categories of Uses and Purpose of Such Uses” is updated to include the applicable routine uses listed below:

Research and Statistical Analysis Disclosure Routine Use: Allows for HUD to review and/or perform statistical analysis as it operates the Department's programs needed to meet its mission. This is appropriate and necessary for the efficient conduct of government and in the best interest of both the individual and the public.

Data Testing for Technology Implementation Disclosure Routine Use: Allows for HUD to provide system access to HUD contractors to develop, maintain and troubleshoot application issues to support the Department's programs needed to meet its mission. Upgrades and migrations to this system are needed to meet the changes in technology and improve system performance. This is appropriate and necessary for the efficient conduct of government and in the best interest of both the individual and the public.

Disclosures for Law Enforcement Investigations Routine Uses: Allows for HUD to disclose records maintained as part of this system to appropriate Federal, State or governmental agencies when HUD determines that using those records is relevant and necessary for law enforcement. This is appropriate and necessary for the efficient conduct of government and in the best interest of both the individual and the public.

Court or Law Enforcement Proceedings Disclosure Routine Uses: Allows for HUD to disclose records maintained as part of this system of records to assist with court and law enforcement proceedings by providing access to records. This is appropriate and necessary for the efficient conduct of government and in the best interest of both the individual and the public.

Department of Justice for Litigation Disclosure Routine Use: To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

SYSTEM NAME AND NUMBER:

HUD Enforcement Management System (HEMS), HUD/FHEO-02.

SECURITY CLASSIFICATION:

Unclassified.

SYSTEM LOCATION:

Records are maintained at NCCIPS Building 9325 Stennis Space Center, MS 39529-6000. The Paper Records are located at the FHEO Regional office.

SYSTEM MANAGER(S):

Patrina Munson, Director, Office of Information Services and Communications, Fair Housing and Equal Opportunity, Department of Housing and Urban Development, 451 Seventh Street SW, Room 5118, Washington, DC 20410-0001.

AUTHORITY FOR MAINTENANCE OF THE SYSTEM:

Title VIII of the Civil Rights Act of 1968, as amended by the Fair Housing Act of 1988 (42 U.S.C. 3601 et seq.); title VI of the Civil Rights Act of 1964 (42 U.S.C. 2000d-2000d-7). Section 504 of the Rehabilitation Act of 1973 (29 U.S.C. 794). Section 109 of title I of the Housing and Community Development Act of 1974 (42 U.S.C. 5309); title II of the American Disabilities Act of 1990 (42 U.S.C. 12101 et seq.). Age Discrimination Act of 1975 (42 U.S.C. 6101-6107); Title IX of the Education Amendments Act of 1972 (20 U.S.C. 1681-1688), and the Architectural Barriers Act of 1968 (42 U.S.C. 4151 et seq.); title 2, Code of Federal Regulations (CFR), parts 180 and 2424. Title 31 U.S.C 6101; title 41 U.S.C.; title 42 U.S.C. 3533 and 3535; and Executive Orders 12549 and 12689. Violence Against Women Act (VAWA), 34 U.S.C. 1294(c) & 1295(d).

PURPOSE(S) OF THE SYSTEM:

To serve as a repository for case data on housing discrimination complaints and case files during the investigation process and to automate the enforcement lines of business for FHEO. The Department of Housing and Urban Development (HUD), Office of Fair Housing and Equal Opportunity (FHEO) maintains the HUD Enforcement Management System (HEMS) system of records. HEMS is the system where case data on housing discrimination complaint inquiries and case files are documented during the investigation process. Personal information is collected on a case-by-case basis to contact the people involved or if relevant to the particular case. The public may submit a housing discrimination complaint through the online HUD Form 903 on HUD's website, or by contacting FHEO by mail, phone, email, or in person. Data from the online HUD Form 903, including some contact information supplied by the complainant, goes directly into HEMS. Complaints made through other forms of submission are entered into HEMS by FHEO staff or staff from partner state and local government agencies.

CATEGORIES OF INDIVIDUALS COVERED BY THE SYSTEM:

Complainants and their Representatives, Respondents and their Representatives, witnesses who were interviewed during the investigation, and case investigators.

CATEGORIES OF RECORDS IN THE SYSTEM:

Respondents and/or Complainants and/or Witnesses and/or Contacts Full Name, Email Address, Fax Number, Phone Number(s), Mailing Address.

RECORD SOURCE CATEGORIES:

Individuals, including from the Housing Discrimination Complaint Form 903, publicly available data sets (e.g., property ownership records) and the following Federal, State, and local entities; United States Department of Agriculture (USDA), Federal Financial Institutions Examination Council (FFIEC) which includes five banking regulators—the Federal Reserve Board of Governors (FRB), the Federal Deposit Insurance Corporation (FDIC), the National Credit Union Administration (NCUA), the Office of the Comptroller of the Currency (OCC), the Consumer Financial Protection Bureau (CFPB), and State and Local Government Fair Housing Agencies that partner with FHEO.

ROUTINE USES OF RECORDS MAINTAINED IN THE SYSTEM, INCLUDING CATEGORIES OF USERS AND PURPOSES OF SUCH USES:

(1) (a) To individuals under contract to HUD or under contract to another agency with funds provided by HUD, for the purpose of conducting oversight and monitoring of program operations to determine compliance with applicable laws and regulations, and FHEO reporting requirements (information disclosed under this routine use is subject to Privacy Act requirements and limitations on disclosures are applicable to HUD officials and employees).

(b) To State and local agencies certified by HUD to investigate and adjudicate title VIII housing discrimination complaints; State and local agencies also use HEMS to record investigation information.

(c) To a party (complainant or respondent) to an investigation once the investigation is closed, upon the party's request, information derived from an investigation and any final investigative report relating to that investigation, including the names of witnesses, except when requesting anonymity pursuant to 24 CFR 103.230(a)(1).

(2) To contractors, grantees, experts, consultants, Federal agencies, and non-Federal entities, including, but not limited to, State and local governments and other research institutions or their parties, and entities and their agents with whom HUD has a contract, service agreement, grant, or cooperative agreement, when necessary to accomplish an agency function, related to a system of records, for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(3) To contractors, experts, and consultants with whom HUD has a contract, service agreement, or other assignment of the Department, when necessary to utilize relevant data for the purpose of testing new technology and systems designed to enhance program operations and performance.

(4) To appropriate agencies, entities, and persons when: (1) HUD suspects or has confirmed that there has been a breach of the system of records; (2) HUD has determined that as a result of the suspected or confirmed breach there is a risk of harm to individuals, HUD, the Federal Government, or national security; and (3) The disclosure made to such agencies, entities, and persons is reasonably necessary to assist in connection with HUD's efforts to respond to the suspected or confirmed breach or to prevent, minimize, or remedy such harm.

(5) To another Federal agency or Federal entity, when HUD determines that information from this system of records is reasonably necessary to assist the recipient agency or entity in (1) responding to suspected or confirmed breach, or (2) preventing, minimizing, or remedying the risk of harm to individuals, the recipient agency or entity (including its information systems, programs, and operations) the Federal Government, or national security, resulting from a suspected or confirmed breach.

(6) To appropriate Federal, State, local, Tribal, or governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

(7) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(8) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(9) To the USDA for sharing information on investigations involving the same title VI and title VIII Federal funding recipients.

(10) To the FFIEC for investigating banks that are respondents in title VIII investigations.

POLICIES AND PRACTICES FOR STORAGE OF RECORDS:

Paper and electronic records.

POLICIES AND PRACTICES FOR RETRIEVAL OF RECORDS:

Inquiry Number, Case Number, Fair Housing Assistance Program (FHAP) Case Number, Case Name, Address.

POLICIES AND PRACTICES FOR RETENTION AND DISPOSAL OF RECORDS:

Permanent. The retention period for the information in HEMS is maintained for the life of the case to support the activity and other enforcement activities that may become related to the case.

ADMINISTRATIVE, TECHNICAL, AND PHYSICAL SAFEGUARDS:

A User ID and password are required for authentication. Users must sign a Rules of Behavior form prior to being granted system access. These rules emphasize privacy protection of personally identifiable information in HEMS. Manual records are stored in lockable file cabinets; computer facilities are secured and accessible only by authorized personnel, and all files are stored in a secured area. Technical restraints are employed regarding accessing the computer and data files.

RECORD ACCESS PROCEDURES:

Individuals requesting records of themselves should address written inquiries to the Department of Housing Urban and Development, 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

The housing discrimination related records in HEMS are maintained for use in civil rather than criminal actions and are prohibited from disclosure pursuant to exemption 5 U.S.C. 552a(d)(5) of the Privacy Act. Pursuant to 5 U.S.C. 552a(k)(2), all investigatory materials, including conciliation files, in records contained in this system which meet the criteria of this subsection, are exempt from the notice, access, and contest requirements (under 5 U.S.C. 552a(c)(3), (d), (e)(1), (e)(4)(G), (H), (I), and (f)) as promulgated in 24 CFR 16.15(a)(1).

HISTORY:

Docket No. FR-5763-N-12, 79 FR 62658, October 20, 2014.

LaDonne L. White,
Chief Privacy Officer, Office of Administration.

[FR Doc. 2023-27443 Filed 12-13-23; 8:45 am]

BILLING CODE P